NATIONAL FOUNDATION ON THE ARTS AND THE HUMANITIES

Institute of Museum and Library Services

Notice of Proposed Information Collection Requests: Internship and Fellowship Program for American Latino Museums Notice of Funding Opportunity

AGENCY: Institute of Museum and Library Services, National Foundation on the Arts and Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning a plan to offer a new grant program to support internships and fellowships for American Latino museums. A copy of the proposed information collection request can be obtained by contacting the individual listed below in the ADDRESSES section of this Notice.

DATES: Written comments must be submitted to the office listed in the addressee section below on or before February 14, 2023.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except federal holidays.

Persons who are deaf or hard of hearing (TTY users) can contact IMLS at 202-207-7858 via 711 for TTY-Based Telecommunications Relay Service.

FOR FURTHER INFORMATION CONTACT: Gibran Villalobos, Project Manager, Office of Museum Services, Institute of Museum and Library Services, 955 L'Enfant Plaza North, SW, Suite 4000, Washington DC 20024-2135. Gibran Villalobos can be reached by telephone at 202-653-4649, or by email at gvillalobos@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of federal support for the Nation's libraries and museums. We advance, support, and empower America's museums, libraries, and related organizations through grant making, research, and policy development. To learn more, visit www.imls.gov.

II. Current Actions

The goal of the Internship and Fellowship Program for American Latino Museums is to support Hispanic-Serving Institutions and Minority-Serving Institutions in providing learning opportunities for students who are pursuing careers or carrying out studies in the arts, humanities, and sciences in the study of American Latino life, art, history, and culture. The Latino American Museum Program was authorized for creation by the National Museum of the American Latino Act in 2020 (20 U.S.C. 80u) the same Act that authorized the creation of a new Smithsonian National Museum of the American Latino.

Agency: Institute of Museum and Library Services.

Title: Internship and Fellowship Program for American Latino Museums Notice of Funding Opportunity.

OMB Control Number: 3137-NEW.

Agency Number: 3137.

Respondents/Affected Public: Minority-Serving Institutions and Hispanic-Serving Institutions that offer or wish to offer fellowships or internships that focus on museum studies, Latino art, history, and culture.

Total Estimated Number of Annual Respondents: 300.

Frequency of Response: Once per request.

Average Minutes per Response: To be determined.

Total Estimated Number of Annual Burden Hours: To be determined.

Cost Burden (dollars): To be determined.

Public Comments Invited: Comments submitted in response to this Notice will be summarized and/or included in the request for OMB's clearance of this information collection.

Dated: December 16, 2022.
Connie Bodner,
Director, Office of Grants Policy and Management, Institute of Museum and Library Services.

[FR Doc. 2022-27342 Filed 12-15-22; 8:45 am]

BILLING CODE 7036-01-P